DEPARTMENT OF ENERGY

Federal Energy Regulatory Commission

[Docket No. CP08-72-000]

Northern Border Pipeline Company; Notice of Intent To Prepare an Environmental Assessment for the Proposed Des Plaines Project and Request for Comments on Environmental Issues

March 7, 2008.

The staff of the Federal Energy Regulatory Commission (FERC or Commission) will prepare an environmental assessment (EA) that will discuss the environmental impacts of the proposed Des Plaines Project (Project). The Project is proposed by Northern Border Pipeline Company (Northern Border) and involves construction and operation of a new natural gas compressor and meter station near Channahon in Will County, Illinois. The EA will be used by the Commission in its decision-making process to determine whether or not to authorize the Project.

This notice announces the opening of the scoping process the Commission will use to gather input from the public and interested agencies on the Project. Your input will help determine which issues need to be evaluated in the EA. State and local government representatives are asked to notify their constituents of this proposed Project and to encourage them to comment on their areas of concern. Details on how to submit comments are provided in the Public Participation section of this notice. Please note that the scoping period will close on April 7, 2008.

This notice is being sent to affected landowners; federal, state, and local government agencies; elected officials; Native American tribes; other interested parties; and local libraries and newspapers. Affected landowners include all landowners who own land within 0.5 mile of the proposed compressor facility. Northern Border's proposed facilities would occupy a parcel of land owned by Northern Border. Northern Border has not proposed to acquire any easements to construct, operate, or maintain the proposed Project facilities.

A number of fact sheets prepared by the FERC, including “An Interstate Natural Gas Facility On My Land? What Do I Need To Know?” and “Guide to Electronic Information at FERC,” are available for viewing on the FERC Internet Web site (http://www.ferc.gov), using the “For Citizens” link. These fact sheets address a number of typically asked questions including how to participate in the Commission's proceedings and how to access information on FERC regulated projects in your area.

Summary of the Proposed Project

Northern Border seeks authorization to construct, own, and operate a new 1,600 horsepower compressor station, meter station, and interconnecting and appurtenant facilities, collectively referred to as the Des Plaines Project, in Will County, Illinois. The proposed construction would include a new interconnect between ANR Pipeline Company (ANR) and Northern Border. Northern Border currently does not have the ability to receive gas directly from ANR due to Northern Border's higher operating pressures. The proposed compressor facilities would enable Northern Border to receive 59,681 dekatherms per day from ANR for transport to an existing delivery point on Northern Border's mainline system in Ventura, Iowa. Northern Border proposes to begin construction in July 2008 in order to be in-service by November 1, 2008.

The general location of the proposed facilities is shown in Appendix 1.¹

¹ The appendices referenced in this notice are not being printed in the Federal Register. Copies of all appendices are available on the Commission's Web site at the “eLibrary” link or from the Commission's Public Reference Room, 888 First Street, NE., Washington, DC 20426, or call (202) 502-8371. For instructions on connecting to eLibrary refer to the “Additional Information” section of this notice. Copies of the appendices were sent to all those receiving this notice in the mail. Requests for detailed maps of the proposed facilities should be made directly to Northern Border Pipeline Company by calling Bambi Heckerman at (402) 492-7575.

Land Requirements for Construction

The proposed construction would include an access road, piping (above and below ground), and one or more buildings that would contain meter equipment, appurtenant piping, and the natural gas compressor and engine. Proposed construction would impact approximately 7.8 acres of land owned by Northern Border. The site consists of undeveloped, disturbed grassland and shrubs, bordered by railroad tracks and active light industrial facilities. All proposed workspace for construction and material/equipment staging would occur within Northern Border's 7.8 acre site or at a nearby site (owned by Northern Border or previously disturbed commercial storage site). A new road would be installed across the CSX rail spur to provide access to the site from Youngs Road.

The EA Process

We ² are preparing this EA to comply with the National Environmental Policy Act (NEPA) which requires the Commission to take into account the environmental impact that could result if it authorizes Northern Border's proposal. By this notice, we are also asking federal, state, and local agencies with jurisdiction and/or special expertise with respect to environmental issues to formally cooperate with us in the preparation of the EA. Agencies that would like to request cooperating status should follow the instructions for filing comments provided below.

² ”We,” “us,” and “our” refer to the environmental staff of the FERC's Office of Energy Projects.

NEPA also requires the FERC to discover and address concerns the public may have about proposals. This process is referred to as “scoping.” The main goal of the scoping process is to focus the analysis in the EA on the important environmental issues. By this Notice of Intent, we are requesting public comments on the scope of the issues to address in the EA. All comments received will be considered during the preparation of the EA.

The EA will discuss impacts that could occur as a result of the construction and operation of the proposed project under these general headings:

• Geology and soils

• Water resources

• Land use and visual quality

• Cultural resources

• Vegetation and wildlife (including threatened and endangered species)

• Air quality and noise

• Reliability and safety

• Cumulative impact

We will also evaluate reasonable alternatives to the proposed Project, where necessary, and make recommendations on how to lessen or avoid impacts on the various resource areas.

Our independent analysis of the issues will be in the EA. Depending on the comments received during the scoping process, the EA may be published and mailed to federal, state, and local agencies, public interest groups, interested individuals, affected landowners, newspapers, libraries, and the Commission's official service list for this proceeding. A comment period will be allotted for review if the EA is published. We will consider all comments on the EA before we make our recommendations to the Commission. To ensure your comments are received and considered, please carefully follow the instructions in the Public Participation section below.

Public Participation

You can make a difference by providing us with your specific comments or concerns about the Project. By becoming a commentor, your concerns will be addressed in the EA and considered by the Commission. You should focus on the potential environmental effects of the proposal and alternatives to the proposal and measures to avoid or lessen environmental impact. The more specific your comments, the more useful they will be. Please carefully follow these instructions to ensure that your comments are received in time and properly recorded:

• Send an original and two copies of your letter to: Kimberly D. Bose, Secretary, Federal Energy Regulatory Commission, 888 First St., NE., Room 1A, Washington, DC 20426;

• Label one copy for the attention of Gas Branch 3, PJ-11.3;

• Reference Docket No. CP08-72-000; and

• Mail your comments so that they will be received in Washington, DC on or before April 7, 2008.

The Commission encourages electronic filing of comments. See 18 Code of Federal Regulations 385.2001(a)(1)(iii) and the instructions on the Commission's Internet Web site at http://www.ferc.gov under the link to “Documents and Filings” and “eFiling.” eFiling is a file attachment process and requires that you prepare your submission in the same manner as you would if filing on paper, and save it to a file on your hard drive. New eFiling users must first create an account by clicking on “Sign up” or “eRegister.” You will be asked to select the type of filing you are making. This filing is considered a “Comment on Filing.” In addition, there is a “Quick Comment” option available, which is an easy method for interested persons to submit text only comments on a project. The Quick-Comment User Guide can be viewed at http://www.ferc.gov/docs-filing/efiling/quick-comment-guide.pdf. Quick Comment does not require a FERC eRegistration account; however, you will be asked to provide a valid e-mail address. All comments submitted under either eFiling or the Quick Comment option are placed in the public record for the specified docket or project number(s).

As described above, we may publish and distribute the EA for comment. If you are interested in receiving the EA for review and/or comment, please return the Mailing List Retention Form (Appendix 2). If you do not return the Mailing List Retention Form, you will be taken off the mailing list.

Becoming an Intervenor

In addition to involvement in the EA scoping process, you may want to become an official party to the proceeding known as an “intervenor.” Intervenors play a more formal role in the process. Intervenors have the right to seek rehearing of the Commission's decision, and also receive copies of case-related Commission documents and filings by other intervenors.

If you want to become an intervenor, you must file a motion to intervene according to Rule 214 of the Commission's Rules of Practice and Procedure (18 CFR 385.214). Motions to Intervene should be electronically submitted using the Commission's eFiling system at http://www.ferc.gov. Persons without Internet access should send an original and 14 copies of their motion to the Secretary of the Commission at the address indicated previously. Persons filing Motions to Intervene on or before the comment deadline indicated above must send a copy of the motion to the Applicant. All filings, including late interventions, submitted after the comment deadline must be served on the Applicant and all other intervenors identified on the Commission's service list for this proceeding. Persons on the service list with e-mail addresses may be served electronically; others must be served a hard copy of the filing.

Affected landowners and parties with environmental concerns may be granted intervenor status upon showing good cause by stating that they have a clear and direct interest in this proceeding which would not be adequately represented by any other parties. You do not need intervenor status to have your environmental comments considered.

Additional Information

Additional information about the Project is available from the Commission's Office of External Affairs, at 1-866-208-FERC or on the FERC Internet Web site (www.ferc.gov) using the “eLibrary” link. Click on the eLibrary link, then on “General Search” and enter the docket number excluding the last three digits in the Docket Number field (i.e., CP08-72). Be sure you have selected an appropriate date range. For assistance, please contact FERC Online Support at FercOnlineSupport@ferc.gov or toll free at 1-866-208-3676, or for TTY, contact (202) 502-8659. The eLibrary link also provides access to the texts of formal documents issued by the Commission, such as Orders, notices, and rulemakings.

In addition, the Commission now offers a free service called eSubscription which allows you to keep track of all formal issuances and submittals in specific dockets. This can reduce the amount of time you spend researching proceedings by automatically providing you with notification of these filings, document summaries, and direct links to the documents. Go to http://www.ferc.gov/esubscribenow.htm.

Finally, public meetings or site visits will be posted on the Commission's calendar located at http://www.ferc.gov/EventCalendar/EventsList.aspx along with other related information.

Kimberly D. Bose,
Secretary.

[FR Doc. E8-5110 Filed 3-13-08; 8:45 am]

BILLING CODE 6717-01-P